DEPARTMENT OF TRANSPORTATION

National Highway Traffic Safety Administration

[Docket No. NHTSA-2011-0082; Notice 2]

Volkswagen Group of America, Incorporated, Grant of Petition for Decision of Inconsequential Noncompliance

AGENCY: National Highway Traffic Safety Administration, DOT.

ACTION: Grant of Petition.

SUMMARY: Volkswagen Group of America, Inc. (Volkswagen),¹ has determined that certain model year (MY) 2011 Volkswagen Jetta passenger cars equipped with a TDI engine and Goodyear Eagle Vector 205/55 R16 94V XL tires, do not fully comply with paragraph S4.2.1.2 of Federal Motor Vehicle Safety Standard (FMVSS) No. 110, Tire selection and rims and motor home/recreation vehicle trailer load carrying capacity information for motor vehicles with a GVWR of 4,536 kilograms (10,000 pounds) or less. Volkswagen has filed an appropriate report pursuant to 49 CFR Part 573, Defect and Noncompliance Responsibility and Reports (dated June 7, 2011).

¹ Volkswagen Group of America, Inc. is a motor vehicle manufacturer and importer incorporated under the laws of the state of New Jersey.

Pursuant to 49 U.S.C. 30118(d) and 30120(h) and the rule implementing those provisions at 49 CFR Part 556, Volkswagen has petitioned for an exemption from the notification and remedy requirements of 49 U.S.C. Chapter 301 on the basis that this noncompliance is inconsequential to motor vehicle safety. Notice of receipt of the petition was published, with a 30-day public comment period, on February 9, 2012 in the Federal Register (77 FR 6856). No comments were received. To view the petition and all supporting documents log onto the Federal Docket Management System (FDMS) Web site at: http://www.regulations.gov/. Then follow the online search instructions to locate docket number “NHTSA-2011-0082.”

Contact Information: For further information on this decision contact Ms. Amina Fisher, Office of Vehicle Safety Compliance, the National Highway Traffic Safety Administration (NHTSA), telephone (202) 366-5307, facsimile (202) 366-5930.

Vehicles Involved: Affected are approximately 463 model year 2011 Volkswagen Jetta passenger cars equipped with a TDI engine and Goodyear Eagle Vector 205/55 R16 94V XL tires, and manufactured between March 18, 2011 and March 23, 2011.

Summary of Volkswagen's Analysis and Arguments: Volkswagen explains that the noncompliance is that the recommended cold tire inflation pressure stated on the tire and loading information label is less than that calculated as prescribed by paragraph S4.2.1.2 of FMVSS No. 110 for the Goodyear Eagle Vector 205/55 R16 94V XL tires installed on the subject vehicles. The tire and loading information label shows a recommended tire pressure of 33 psi, however, it should read 34 psi.

Volkswagen argues that this noncompliance is inconsequential to motor vehicle safety because the noncompliant vehicle placards do not create an unsafe condition and all other labeling requirements have been met.

In summation, Volkswagen believes that the described noncompliance of its tire and loading information labels to meet the requirements of FMVSS No. 110 is inconsequential to motor vehicle safety, and that its petition, to exempt from providing recall notification of noncompliance as required by 49 U.S.C. 30118 and remedying the recall noncompliance as required by 49 U.S.C. 30120 should be granted.

Requirement Background: Section S4.2.1.2 of FMVSS No. 110 requires:

S4.2.1.2 The vehicle normal load on the tire shall not be greater than 94 percent of the load rating at the vehicle manufacturer's recommended cold inflation pressure for that tire.

NHTSA's Analysis of Volkswagen's Reasoning: NHTSA agrees with Volkswagen that the designation of the recommended tire inflation pressure on the tire placard affixed to the subject vehicles is inconsequential to motor vehicle safety. The intent of FMVSS No. 110 is to ensure that vehicles are equipped with tires loaded to an appropriate pressure level to handle maximum vehicle loads and prevent overloading. Even while inflated to 33 psi the installed 205/55R16 tires are rated to withstand both the vehicle's fully loaded weight and the maximum GVWR for the affected vehicles.

The subject vehicles have a fully loaded vehicle weight of 4,078.1 pounds with the right rear tire bearing the most weight at 1,062.6 pounds (considered “worst case” loading for one tire). If calculated at 34 psi (which the labels should have specified), the 205/55R16 tire is rated to support 1,257 pounds. At 33 psi (which the labels mistakenly specify) the tire is rated to support 1,235 pounds, exceeding the “worst case” loading scenario by 172.4 pounds. The subject vehicles have a maximum GVWR of 4299 pounds. The 205/55R16 tire inflated at 33 psi has a capacity rating that exceeds this GVWR value by 88.5 pounds.

NHTSA Decision: In consideration of the foregoing, NHTSA has determined that Volkswagen has met its burden of persuasion that the FMVSS No. 110 noncompliance for the vehicles identified in Volkswagen's Noncompliance Information Report is inconsequential to motor vehicle safety. Accordingly, Volkswagen's petition is granted and the petitioner is exempted from the obligation of providing notification of, and a remedy for, the noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the 463 vehicles that Volkswagen no longer controlled at the time it determined that a noncompliance existed.

Authority: (49 U.S.C. 30118, 30120: delegations of authority at 49 CFR 1.95 and 501.8)

Issued on: May 7, 2013.
Claude H. Harris,
Director, Office of Vehicle Safety Compliance.

[FR Doc. 2013-11412 Filed 5-13-13; 8:45 am]

BILLING CODE 4910-59-P